DEPARTMENT OF COMMERCE

National Oceanic and Atmospheric Administration

Availability of Great Lakes Coastal Restoration Grants Implementation Plan

AGENCY: National Oceanic and Atmospheric Administration, U.S. Department of Commerce.

ACTION: Notice of availability of Great Lakes Coastal Restoration Grants Implementation Plan.

SUMMARY: Notice is hereby given of the availability of the Great Lakes Coastal Restoration Grants Implementation Plan. The Commerce, State, Justice Appropriations Act for 2001 created the Great Lakes Coastal Restoration Grants program. This program provides funding for competitive matching grants to state and local governments for community based coastal restoration activities in the Great Lakes region. As required, the National Oceanic and Atmospheric Administration (NOAA) developed an implementation plan for this program, and submitted it to Congress on May 31, 2001.

The Great Lakes Coastal Restoration Grants Implementation Program will direct approximately $30 million for matching grants to be awarded competitively to state agencies and local governments to undertake coastal and water quality restoration projects in the Great Lakes region. Other entities such as regional organizations and nonprofit groups are not eligible to receive funds directly, but are eligible to receive pass through funding from state agencies or local governments. The eligible states are Illinois, Indiana, Michigan, Minnesota, New York, Ohio, Pennsylvania, and Wisconsin. These states will each receive a portion of the funds to support a competitive funding program. The funding levels are based on the Coastal Zone Management Act allocation formula, and are as follows: Illinois ($1,750,000); Indiana ($1,750,000); Michigan ($7,000,000); Minnesota ($1,938,000); New York ($4,727,000); Ohio ($4,489,000); Pennsylvania ($1,846,000); Wisconsin ($5,686,000). The statute requires matching grants but does not specify an amount. For this year, the match ratio is 4:1.

Each state will run a public competitive process to select eligible projects. At least fifty percent of a state's allocation should be directed to local government projects. The other specifics of the process, including timing and final project selection, are left up to individual states. States are encouraged to utilize these funds to address restoration priorities identified in existing plans such as Coastal Management Plans and Remedial Action Plans. Proposals funded under this program should be consistent with a Great Lakes State's approved coastal management program under section 306 of the Coastal Zone Management Act (CZMA). Absent an approved program, projects must be consistent with the CZMA. Restoration projects eligible for funding include contaminated site cleanup, stormwater controls, wetland restoration, acquisition of greenways and buffers, and other projects designed to control polluted runoff and protect and restore coastal resources. States may use up to five percent of their allotments to cover the administrative expenses of implementing the program.

Copies of the Great Lakes Coastal Restoration Grants Implementation Plan can be found on the NOAA website at http://www.ocrm.nos.noaa.gov/cpd or may be obtained upon request from: Joseph Flanagan, Coastal Programs Division (N/ORM3), Office of Ocean and Coastal Resource Management, NOS, NOAA, 1305 East-West Highway, Silver Spring, Maryland, 20910, tel. 301-713-3155, extension 201, e-mail joseph.flanagan@noaa.gov.

FOR FURTHER INFORMATION CONTACT: John King, Acting Chief, Coastal Programs Division (N/ORM3), Office of Ocean and Coastal Resource Management, NOS, NOAA, 1305 East-West Highway, Silver Spring, Maryland, tel. 301-713-3155 extension 195, e-mail john.king@noaa.gov.

(Catalog of Federal Domestic Assistance Numbers: 11.419 for NOAA Coastal Zone Management Program Administration)
Dated: September 4, 2001.
Jamison S. Hawkins,
Deputy Assistant Administrator, Ocean Services and Coastal Zone Management, National Oceanic and Atmospheric Administration, Department of Commerce.

[FR Doc. 01-22587 Filed 9-7-01; 8:45 am]

BILLING CODE 3510-08-M